DEPARTMENT OF HEALTH AND HUMAN SERVICES

National Institutes of Health

Center for Scientific Review; Amended Notice of Meeting

Notice is hereby given of a change in the meeting of the Population Sciences and Epidemiology Integrated Review Group, Aging, Injury, Musculoskeletal, and Rheumatologic Disorders Study Section, March 14, 2024, 09:00 a.m. to March 15, 2024, 08:00 p.m., National Institutes of Health, Rockledge II, 6701 Rockledge Drive, Bethesda, MD 20892 which was published in the Federal Register on February 26, 2024, 89 FR 14081, Doc 2024-03762.

This meeting is being amended to change the location to Hilton Alexandria Old Town, 1767 King Street, Alexandria, VA 22314. The meeting time will remain the same. The meeting is closed to the public.

Dated: February 26, 2024.
Melanie J. Pantoja,
Program Analyst, Office of Federal Advisory Committee Policy.

[FR Doc. 2024-04306 Filed 2-29-24; 8:45 am]

BILLING CODE 4140-01-P